DEPARTMENT OF COMMERCE

Foreign-Trade Zones Board

[B-29-2017]

Foreign-Trade Zone 281—Miami, Florida; Application for Expansion (New Magnet Site); Under Alternative Site Framework

An application has been submitted to the Foreign-Trade Zones (FTZ) Board (the Board) by Miami-Dade County, grantee of Foreign-Trade Zone 281, requesting authority to expand its zone under the alternative site framework (ASF) adopted by the Board (15 CFR Sec. 400.2(c)) to include a new magnet site in Miami, Florida. The application was submitted pursuant to the Foreign-Trade Zones Act, as amended (19 U.S.C. 81a-81u), and the regulations of the Board (15 CFR part 400). It was formally docketed on May 2, 2017.

FTZ 281 was established by the Board under the alternative site framework on August 2, 2012 (Board Order 1844, 77 FR 47816, 8/10/2012). The zone currently has a service area that includes the northern half of Miami-Dade County and consists of three magnet sites and forty-eight usage-driven sites. There is an application currently pending with the FTZ Board to expand the zone to include an additional magnet site (proposed Site 31) in Miami (Docket B-50-2015).

The applicant is now requesting authority to expand its zone to include an additional magnet site: Proposed Site 55 (3,248.24 acres)—Miami International Airport, 4200 NW 36th Street, Building 5A, Miami. The proposed new site is adjacent to the Miami Customs and Border Protection port of entry.

In accordance with the Board's regulations, Qahira El-Amin of the FTZ Staff is designated examiner to evaluate and analyze the facts and information presented in the application and case record and to report findings and recommendations to the Board.

Public comment is invited from interested parties. Submissions shall be addressed to the Board's Executive Secretary at the address below. The closing period for their receipt is August 8, 2017. Rebuttal comments in response to material submitted during the foregoing period may be submitted during the subsequent 15-day period to August 23, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Qahira El-Amin at Qahira.El-Amin@trade.gov or (202) 482-5928.

Dated: June 5, 2017.
Andrew McGilvray,
Executive Secretary.

[FR Doc. 2017-12004 Filed 6-8-17; 8:45 am]

BILLING CODE 3510-DS-P